DEPARTMENT OF TRANSPORTATION

Federal Motor Carrier Safety Administration

[Docket No. FMCSA-1999-5748; FMCSA-2000-7165; FMCSA-2001-10578; FMCSA-2003-15892; FMCSA-2005-20560; FMCSA-2005-21711; FMCSA-2005-22194; FMCSA-2005-22727; FMCSA-2006-26653; FMCSA-2007-27897; FMCSA-2008-0021; FMCSA-2009-0154; FMCSA-2009-0206; FMCSA-2009-0303; FMCSA-2010-0354; FMCSA-2010-0372; FMCSA-2010-0385; FMCSA-2011-0010; FMCSA-2011-0024; FMCSA-2011-0092; FMCSA-2011-0275; FMCSA-2011-0299; FMCSA-2011-0325; FMCSA-2011-0380; FMCSA-2013-0025; FMCSA-2013-0029; FMCSA-2013-0165; FMCSA-2013-0166; FMCSA-2013-0168; FMCSA-2013-0169; FMCSA-2013-0170; FMCSA-2013-0174; FMCSA-2014-0300; FMCSA-2014-0302; FMCSA-2014-0304; FMCSA-2015-0048; FMCSA-2015-0055; FMCSA-2015-0056; FMCSA-2015-0071; FMCSA-2015-0072; FMCSA-2015-0344; FMCSA-2015-0345; FMCSA-2015-0347; FMCSA-2016-0208; FMCSA-2016-0212; FMCSA-2016-0377; FMCSA-2017-0017; FMCSA-2017-0018; FMCSA-2017-0022; FMCSA-2017-0023; FMCSA-2017-0026; FMCSA-2018-0014; FMCSA-2019-0005; FMCSA-2019-0009; FMCSA-2019-0011; FMCSA-2019-0013; FMCSA-2019-0014; FMCSA-2019-0015; FMCSA-2020-0018]

Qualification of Drivers; Exemption Applications; Vision

AGENCY: Federal Motor Carrier Safety Administration (FMCSA), Department of Transportation (DOT).

ACTION: Notice of final disposition.

SUMMARY: FMCSA announces its decision to renew exemptions for 91 individuals from the vision requirement in the Federal Motor Carrier Safety Regulations (FMCSRs) for interstate commercial motor vehicle (CMV) drivers. The exemptions enable these individuals to continue to operate CMVs in interstate commerce without meeting the vision requirement in one eye.

DATES: Each group of renewed exemptions were applicable on the dates stated in the discussions below and will expire on the dates provided below.

FOR FURTHER INFORMATION CONTACT: Ms. Christine A. Hydock, Chief, Medical Programs Division, (202) 366-4001, fmcsamedical@dot.gov, FMCSA, DOT, 1200 New Jersey Avenue SE, Room W64-224, Washington, DC 20590-0001. Office hours are from 8:30 a.m. to 5 p.m., ET, Monday through Friday, except Federal holidays. If you have questions regarding viewing or submitting material to the docket, contact Dockets Operations, (202) 366-9826.

SUPPLEMENTARY INFORMATION:

I. Public Participation

A. Viewing Comments

To view comments go to www.regulations.gov, insert the docket number, FMCSA-1999-5748, FMCSA-2000-7165, FMCSA-2001-10578, FMCSA-2003-15892, FMCSA-2005-20560, FMCSA-2005-21711, FMCSA-2005-22194, FMCSA-2005-22727, FMCSA-2006-26653, FMCSA-2007-27897, FMCSA-2008-0021, FMCSA-2009-0154, FMCSA-2009-0206, FMCSA-2009-0303, FMCSA-2010-0354, FMCSA-2010-0372, FMCSA-2010-0385, FMCSA-2011-0010, FMCSA-2011-0024, FMCSA-2011-0092, FMCSA-2011-0275, FMCSA-2011-0299, FMCSA-2011-0325, FMCSA-2011-0380, FMCSA-2013-0025, FMCSA-2013-0029, FMCSA-2013-0165, FMCSA-2013-0166, FMCSA-2013-0168, FMCSA-2013-0169, FMCSA-2013-0170, FMCSA-2013-0174, FMCSA-2014-0300, FMCSA-2014-0302, FMCSA-2014-0304, FMCSA-2015-0048, FMCSA-2015-0055, FMCSA-2015-0056, FMCSA-2015-0071, FMCSA-2015-0072, FMCSA-2015-0344, FMCSA-2015-0345, FMCSA-2015-0347, FMCSA-2016-0208, FMCSA-2016-0212, FMCSA-2016-0377, FMCSA-2017-0017, FMCSA-2017-0018, FMCSA-2017-0022, FMCSA-2017-0023, FMCSA-2017-0026, FMCSA-2018-0014, FMCSA-2019-0005, FMCSA-2019-0009, FMCSA-2019-0011, FMCSA-2019-0013, FMCSA-2019-0014, FMCSA-2019-0015, or FMCSA-2020-0018 in the keyword box, and click “Search.” Next, sort the results by “Posted (Newer-Older),” choose the first notice listed, and click “Browse Comments.” If you do not have access to the internet, you may view the docket online by visiting Dockets Operations in Room W12-140 on the ground floor of the DOT West Building, 1200 New Jersey Avenue SE, Washington, DC 20590-0001, between 9 a.m. and 5 p.m., ET, Monday through Friday, except Federal holidays. To be sure someone is there to help you, please call (202) 366-9317 or (202) 366-9826 before visiting Dockets Operations.

B. Privacy Act

In accordance with 49 U.S.C. 31315(b)(6), DOT solicits comments from the public on the exemption request. DOT posts these comments, without edit, including any personal information the commenter provides, to www.regulations.gov, as described in the system of records notice (DOT/ALL-14 FDMS), which can be reviewed at www.dot.gov/privacy.

II. Background

On January 10, 2022, FMCSA published a notice announcing its decision to renew exemptions for 91 individuals from the vision requirement in 49 CFR 391.41(b)(10) to operate a CMV in interstate commerce and requested comments from the public (87 FR 1250). The public comment period ended on February 9, 2022, and no comments were received.

FMCSA has evaluated the eligibility of these applicants and determined that renewing these exemptions would achieve a level of safety equivalent to, or greater than, the level that would be achieved by complying with the current regulation § 391.41(b)(10).

The physical qualification standard for drivers regarding vision found in § 391.41(b)(10) states that a person is physically qualified to drive a CMV if that person has distant visual acuity of at least 20/40 (Snellen) in each eye without corrective lenses or visual acuity separately corrected to 20/40 (Snellen) or better with corrective lenses, distant binocular acuity of a least 20/40 (Snellen) in both eyes with or without corrective lenses, field of vision of at least 70° in the horizontal meridian in each eye, and the ability to recognize the colors of traffic signals and devices showing red, green, and amber.

III. Discussion of Comments

FMCSA received no comments in this proceeding.

IV. Conclusion

Based on its evaluation of the 91 renewal exemption applications and comments received, FMCSA confirms its decision to exempt the following drivers from the vision requirement in § 391.41(b)(10).

As of February 9, 2022, and in accordance with 49 U.S.C. 31136(e) and 31315(b), the following 85 individuals have satisfied the renewal conditions for obtaining an exemption from the vision requirement in the FMCSRs for interstate CMV drivers (64 FR 40404; 64 FR 66962; 65 FR 33406; 65 FR 57234; 66 FR 53826; 66 FR 63289; 66 FR 66966; 68 FR 13360; 68 FR 52811; 68 FR 61860; 68 FR 64944; 68 FR 69434; 70 FR 12265; 70 FR 17504; 70 FR 30997; 70 FR 48797; 70 FR 53412; 70 FR 57353; 70 FR 61165; 70 FR 61493; 70 FR 67776; 70 FR 71884; 70 FR 72689; 70 FR 74102; 71 FR 4632; 72 FR 8417; 72 FR 27624; 72 FR 36099; 72 FR 39879; 72 FR 40362; 72 FR 52419; 72 FR 62897; 72 FR 64273; 73 FR 5259; 73 FR 15567; 73 FR 27015; 74 FR 19270; 74 FR 34394; 74 FR 37295; 74 FR 41971; 74 FR 43217; 74 FR 48343; 74 FR 49069; 74 FR 53581; 74 FR 57551; 74 FR 60021; 74 FR 60022; 74 FR 62632; 75 FR 1451; 75 FR 4623; 75 FR 19674; 75 FR 72863; 75 FR 77492; 76 FR 2190; 76 FR 5425; 76 FR 7894; 76 FR 9856; 76 FR 17481; 76 FR 20076; 76 FR 20078; 76 FR 25762; 76 FR 25766; 76 FR 2812576 FR 37885; 76 FR 53708; 76 FR 54530; 76 FR 62143; 76 FR 64164; 76 FR 64171; 76 FR 66123; 76 FR 70210; 76 FR 70215; 76 FR 73769; 76 FR 75940; 76 FR 75942; 77 FR 545; 77 FR 3547; 77 FR 3554; 77 FR 17109; 77 FR 23797; 77 FR 27845; 77 FR 74273; 78 FR 800; 78 FR 12813; 78 FR 16762; 78 FR 20376; 78 FR 24300; 78 FR 34141; 78 FR 34143; 78 FR 37270; 78 FR 47818; 78 FR 52602; 78 FR 62935; 78 FR 63302; 78 FR 63307; 78 FR 64274; 78 FR 64280; 78 FR 66099; 78 FR 67452; 78 FR 67454; 78 FR 67460; 78 FR 68137; 78 FR 76395; 78 FR 77778; 78 FR 77780; 78 FR 77782; 78 FR 78475; 78 FR 78477; 79 FR 2247; 79 FR 2248; 79 FR 3919; 79 FR 4803; 79 FR 23797; 79 FR 53708; 79 FR 73687; 80 FR 2473; 80 FR 3723; 80 FR 12248; 80 FR 14223; 80 FR 15863; 80 FR 18693; 80 FR 18696; 80 FR 26139; 80 FR 29149; 80 FR 29152; 80 FR 31635; 80 FR 31640; 80 FR 33011; 80 FR 37718; 80 FR 44188; 80 FR 48402; 80 FR 48409; 80 FR 49302; 80 FR 59225; 80 FR 59230; 80 FR 62161; 80 FR 63869; 80 FR 67472; 80 FR 67481; 80 FR 70060; 80 FR 76345; 80 FR 79414; 80 FR 80443; 81 FR 1284; 81 FR 11642; 81 FR 15401; 81 FR 16265; 81 FR 20435; 81 FR 44680; 81 FR 60117; 81 FR 70253; 81 FR 81230; 81 FR 86063; 81 FR 96165; 81 FR 96180; 81 FR 96191; 82 FR 12683; 82 FR 13045; 82 FR 13048; 82 FR 15277; 82 FR 18949; 82 FR 18956; 82 FR 20962; 82 FR 22379; 82 FR 24430; 82 FR 32919; 82 FR 33542; 82 FR 35050; 82 FR 37499; 82 FR 37504; 82 FR 43647; 82 FR 47309; 82 FR 47312; 83 FR 2289; 83 FR 2306; 83 FR 3861; 83 FR 4537; 83 FR 6922; 83 FR 6925; 83 FR 28325; 83 FR 33292; 83 FR 53724; 83 FR 54644; 84 FR 2326; 84 FR 10389; 84 FR 12665; 84 FR 16320; 84 FR 21393; 84 FR 21397; 84 FR 21401; 84 FR 23629; 84 FR 33801; 84 FR 46088; 84 FR 47045; 84 FR 47047; 84 FR 47050; 84 FR 47057; 84 FR 52160; 84 FR 52166; 84 FR 58437; 84 FR 58448; 84 FR 58450; 84 FR 58453; 84 FR 66442; 84 FR 66444; 84 FR 68288; 84 FR 69814; 85 FR 4764; 85 FR 4769; 85 FR 8334):

Dakota A. Albrecht (MN)

Cesar Avila (PA)

Ernest J. Bachman (PA)

Alex T. Balk (AZ)

Wayne Barker (OK)

Herbert R. Benner (ME)

Gary L. Best (MI)

Therron K. Billings (VA)

Kenneth L. Bowers, Jr. (MN)

Charles W. Bradley (SC)

Jerry D. Bridges (TX)

Brian E. Burrows (TX)

Michael D. Champion (VT)

Charles C. Chapman (NC)

Shawn T. Cobbs (MD)

William J. Corder (NC)

Aubrey R. Cordrey, Jr. (DE)

George R. Cornell (OH)

Roderick Croft (FL)

James W. Day (VA)

Sean J. Dornin (PA)

Cecil A. Evey (ID)

Elhadji M. Faye (CA)

Dan J. Feik (IL)

Mark A. Ferris (IA)

James E. Fix (SC)

Richard L. Gandee (OH)

Willie George (NY)

Jayme L. Gilbert (NY)

Mark T. Gileau (CT)

Jeffrey J. Graham (MI)

Christopher L. Granby (MI)

Britt A. Green (ND)

James A. Green (IL)

Donald A. Hall (NC)

Johnnie L. Hall (MD)

Keith N. Hall (UT)

Vashion E. Hammond (FL)

Louis M. Hankins (IL)

Robert D. Hattabaugh (AR)

Carl E. Hess (PA)

Frank E. Johnson, Jr. (FL)

David J. Kibble (PA)

John E. Kimmet, Jr. (WA)

Mark L. LeBlanc (MN)

David F. LeClerc (MN)

Ronnie R. Lockamy (NC)

John T. Mabry (FL)

Timothy R. McCullough (FL)

Cameron S. McMillen (NM)

Mark Meacham (NC)

David L. Menken (NY)

Molu H. Mohamed (OH)

Kenneth H. Morris (NC)

James Muldoon (NY)

James R. Murphy (NY)

Robert M. Murphy (NJ)

Al V. Nowviock (IL)

Robert M. Pickett II (MI)

Thomas Pizzurro (NY)

Christopher W. Proeschel (OH)

Andres Regalado (CA)

Kevin C. Rich (NC)

Thenon D. Ridley (TX)

Chris A. Ritenour (MI)

Steven L. Roberts (AR)

Berry A. Rodrigue (LA)

Angelo D. Rogers (AL)

Leo D. Roy (NH)

Ronald L. Roy (IL)

Ricky J. Sanderson (UT)

Bobby Sawyers (PA)

Jerry L. Schroder (IL)

Brandon L. Siebe (KY)

David A. Simpson (OH)

Roye T. Skelton (MS)

John B. Stiltner (KY)

Greg W. Story (NC)

Kolby W. Strickland (WA)

Scott C. Teich (MN)

Kendle F. Waggle, Jr. (IN)

Andrew L. Walker (MN)

James J. Walsh (NH)

Dennis E. White (PA)

Willie R. White (NV)

The drivers were included in docket numbers FMCSA-1999-5748; FMCSA-2000-7165; FMCSA-2001-10578; FMCSA-2003-15892; FMCSA-2005-20560; FMCSA-2005-21711; FMCSA-2005-22194; FMCSA-2005-22727; FMCSA-2006-26653; FMCSA-2007-27897; FMCSA-2008-0021; FMCSA-2009-0154; FMCSA-2009-0206; FMCSA-2009-0303; FMCSA-2010-0354; FMCSA-2010-0372; FMCSA-2010-0385; FMCSA-2011-0010; FMCSA-2011-0024; FMCSA-2011-0092; FMCSA-2011-0275; FMCSA-2011-0299; FMCSA-2011-0380; FMCSA-2013-0025; FMCSA-2013-0029; FMCSA-2013-0165; FMCSA-2013-0166; FMCSA-2013-0168; FMCSA-2013-0169; FMCSA-2013-0170; FMCSA-2014-0300; FMCSA-2014-0302; FMCSA-2014-0304; FMCSA-2015-0048; FMCSA-2015-0055; FMCSA-2015-0056; FMCSA-2015-0071; FMCSA-2015-0072; FMCSA-2015-0344; FMCSA-2015-0345; FMCSA-2016-0208; FMCSA-2016-0212; FMCSA-2016-0377; FMCSA-2017-0017; FMCSA-2017-0018; FMCSA-2017-0022; FMCSA-2017-0023; FMCSA-2018-0014; FMCSA-2019-0005; FMCSA-2019-0009; FMCSA-2019-0011; FMCSA-2019-0013; FMCSA-2019-0014; FMCSA-2019-0015; FMCSA-2020-0018. Their exemptions were applicable as of February 9, 2022 and will expire on February 9, 2024.

As of February 12, 2022, and in accordance with 49 U.S.C. 31136(e) and 31315(b), the following individual has satisfied the renewal conditions for obtaining an exemption from the vision requirement in the FMCSRs for interstate CMV drivers (81 FR 1474; 81 FR 48493; 83 FR 6925; 85 FR 4769):

Aaron D. Tillman (DE)

The driver was included in docket number FMCSA-2015-0347. The exemption was applicable as of February 12, 2022 and will expire on February 12, 2024.

As of February 16, 2022, and in accordance with 49 U.S.C. 31136(e) and 31315(b), the following three individuals have satisfied the renewal conditions for obtaining an exemption from the vision requirement in the FMCSRs for interstate CMV drivers (83 FR 2311; 83 FR 18648; 85 FR 4769):

Ryan J. Plank (PA); Aaron R. Rupe (IL); and Juan D. Zertuche (TX)

The drivers were included in docket number FMCSA-2017-0026. Their exemptions were applicable as of February 16, 2022 and will expire on February 16, 2024.

As of February 22, 2022, and in accordance with 49 U.S.C. 31136(e) and 31315(b), the following individual has satisfied the renewal conditions for obtaining an exemption from the vision requirement in the FMCSRs for interstate CMV drivers (77 FR 539; 77 FR 10608; 79 FR 6993; 81 FR 15401; 83 FR 6925; 85 FR 4769):

Brian K. Cline (NC)

The driver was included in docket number FMCSA-2011-0325. The exemption was applicable as of February 22, 2022 and will expire on February 22, 2024.

As of February 27, 2022, and in accordance with 49 U.S.C. 31136(e) and 31315(b), the following individual has satisfied the renewal conditions for obtaining an exemption from the vision requirement in the FMCSRs for interstate CMV drivers (79 FR 1908; 79 FR 14333; 81 FR 15401; 83 FR 6925; 85 FR 4769):

Danielle Wilkins (CA)

The driver was included in docket number FMCSA-2013-0174. The exemption is applicable as of February 27, 2022 and will expire on February 27, 2024.

In accordance with 49 U.S.C. 31315(b), each exemption will be valid for 2 years from the effective date unless revoked earlier by FMCSA. The exemption will be revoked if the following occurs: (1) The person fails to comply with the terms and conditions of the exemption; (2) the exemption has resulted in a lower level of safety than was maintained prior to being granted; or (3) continuation of the exemption would not be consistent with the goals and objectives of 49 U.S.C. 31136(e) and 31315(b).

Larry W. Minor,
Associate Administrator for Policy.

[FR Doc. 2022-04285 Filed 2-28-22; 8:45 am]

BILLING CODE 4910-EX-P